DEPARTMENT OF AGRICULTURE

Forest Service

Revision of Land Management Plan for the National Forests in Mississippi

AGENCY: Forest Service, USDA.

ACTION: Notice of adjustment to an ongoing plan revision process.

SUMMARY: The National Forests in Mississippi elects to adjust its land management plan revision process from compliance with the 1982 planning regulations, to conformance with new planning regulations adopted in January 2005. This adjustment will have the following effects:

(1) The revised forest plan will consist of five components organized into three main parts or sections, making it more strategic and flexible (36 CFR part 219).

(2) The Responsible Official who approves the final plan will be the Forest Supervisor instead of the Regional Forester (36 CFR 219.2).

(3) The National Forests in Mississippi will establish an environmental management system simultaneously with completion of the revised forest plan (36 CFR 219.5).

(4) The National Forests in Mississippi will prepare a comprehensive evaluation for plan revision in conjunction with development of the revised plan (36 CFR 219.6).

(5) Pending final rulemaking, the planning and decision-making process may be categorically excluded from analysis and documentation in an environmental impact statement and record of decision (see draft rule at 70 FR 1062, January 5, 2005).

(6) Administrative review will consist of a pre-decision objection process (36 CFR 219.13).

DATES: Transition is effective immediately upon publication of this notice in the Federal Register, July 27, 2005.

ADDRESSES: Submit written comments to; Forest Plan Revision, National Forests in Mississippi, 100 West Capitol Street, Suite 1141, Jackson, MS 39269. Electronic mail should include “Forest Plan Revision” in the subject line and be sent to: Mississippi_Plan@fs.fed.us. Forest plan revision World Wide Web internet address is: http://www.fs.fed.us/r8/mississippi/forest_plan/.

FOR FURTHER INFORMATION CONTACT: Jeff Long, Planning Team Leader, National Forests in Mississippi, (601) 965-4391; TTY (601) 965-6038.

SUPPLEMENTARY INFORMATION: The Bienville, Delta, De Soto, Holly Springs, Homochitto, and Tombigbee National Forests are managed as a single administrative unit (National Forests in Mississippi). In December of 1999, the National Forests in Mississippi formally initiated its land management plan revision process with publication of a notice of intent to prepare an environmental impact statement for plan revision (64 FR 69686, December 14, 1999). After that initiation, several delays were experienced due to budget and administrative matters. In anticipation of funding becoming available in fiscal year 2004, the National Forests in Mississippi published a second (or revised) notice of intent in September 2003 (68 FR 55576, September 26, 2003). When plan revision began again in earnest in 2004, the National Forests in Mississippi resumed formal public involvement activities including hosting “open houses” in September and October 2004 around the state. There has been considerable public participation and collaborative work on this planning process over the past few years, including more than 35 public meetings to date. Input from previous public involvement will continue to be considered along with additional (ongoing) collaborative efforts during development of the plan revision components under the January 5, 2005, Planning Rule (70 FR 1023, January 5, 2005).

The plan revision process will continue to be an open planning process with numerous opportunities for the public to obtain information, provide comment, or participate in collaborative stakeholder activities. Options for the public include any of the following methods:

(1) Reviewing and commenting on the preliminary plan components, analysis results, and supporting maps posted on our Web site,

(2) Attending open house meetings,

(3) Requesting planning team presentations to specific groups,

(4) Newsletters, or

(5) Providing input during formal comment periods.

The focal points of the future collaborative work will be:

(1) Review and adjustment of the preliminary proposed action (desired conditions and suitability of land areas for various purposes) and identification of options.

(2) Development of management objectives to assist in attaining or maintaining desired conditions.

(3) Formulation of guidelines to serve as operational controls to help ensure projects move toward or maintain desired conditions.

(4) Development of the plan monitoring framework and environmental management system to guide adaptive management. We expect to complete this phase of collaboration during the fall of 2005.

Our remaining forest plan revision schedule will be approximately as follows:

(1) Release of draft forest plan and start of 90-day public comment period, spring 2006,

(2) Release of final plans and start of 30-day objection period, fall 2006,

(3) Final decision and start of plan implementation, winter 2006.

Antoine L. Dixon, Forest Supervisor, National Forests in Mississippi, is the Responsible Official (36 CFR 219.2(b)(1)).

(Authority: 36 CFR 219.9(b)(2)(i), 70 FR 1023, January 5, 2005)
Dated: July 15, 2005.
Antoine L. Dixon,
Forest Supervisor, National Forests in Mississippi.

[FR Doc. 05-14879 Filed 7-26-05; 8:45 am]

BILLING CODE 3410-11-M